DEPARTMENT OF TRANSPORTATION

Federal Aviation Administration

[Docket No. FAA-2021-0067]

Agency Information Collection Activities: Requests for Comments; Clearance of Renewed Approval of Information Collection: High Density Traffic Airports; Slot Allocation and Transfer Methods.

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on March 16, 2021. The FAA collects information from U.S. and foreign air carriers holding or requesting a slot at Ronald Reagan Washington National Airport (DCA), John F. Kennedy International Airport (JFK), and LaGuardia Airport (LGA); operating or requesting scheduled flights at Newark Liberty International Airport (EWR), Los Angeles International Airport (LAX), O'Hare International Airport (ORD), and San Francisco International Airport (SFO); and conducting unscheduled operations at DCA and LGA. The information collected is necessary to support the advance management of air traffic demand by the FAA Slot Administration in an effort to reduce potential delays. The FAA proposes renaming this information collection to “FAA Runway Slot Administration and Schedule Analysis” to more accurately reflect the collection of information related to multiple airports subject to different FAA regulatory and voluntary processes under this program.

DATES: Written comments should be submitted by September 29, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Matthew Gonabe, FAA Slot Administration, by email at: matthew.gonabe@faa.gov; phone: (609) 485-9554.

SUPPLEMENTARY INFORMATION: Public Comments Invited: You are asked to comment on any aspect of this information collection, including (a) Whether the proposed collection of information is necessary for FAA's performance; (b) the accuracy of the estimated burden; (c) ways for FAA to enhance the quality, utility, and clarity of the information collection; and (d) ways that the burden could be minimized without reducing the quality of the collected information.

OMB Control Number: 2120-0524.

Title: High Density Traffic Airports; Slot Allocation and Transfer Methods.

Form Numbers: There are no FAA forms associated with this collection.

Type of Review: Renewal of an information collection.

Background: The Federal Register Notice with a 60-day comment period soliciting comments on the following collection of information was published on March 16, 2021 (86 FR 14515). The FAA has implemented several initiatives to address air traffic congestion and delay at certain airports within the National Airspace System (NAS). DCA slot rules are established under 14 CFR part 93, subparts K and S. The FAA has issued Orders limiting operations at JFK and LGA.¹ These Orders resulted from increasing congestion and delays at the airports requiring the FAA to allocate arrival and departure slots at JFK and LGA. In addition, the FAA has designated EWR, LAX, ORD, and SFO as Level 2 schedule-facilitated airports under the IATA Worldwide Slot Guidelines (WSG) now known as the Worldwide Airport Slot Guidelines (WASG).² At Level 2 airports, the FAA seeks the cooperation of all carriers planning operations, on a voluntary basis, to maintain close communications on runway schedules and facilitate adjustments, as needed.

¹ Operating Limitations at John F. Kennedy International Airport, 73 FR 3510 (Jan. 18, 2008), as most recently amended 85 FR 58258 (Sep. 18, 2020); Operating Limitations at New York LaGuardia Airport, 71 FR 77854 (Dec. 27, 2006), as most recently amended 85 FR 58255 (Sep. 18, 2020).

² Notice of Submission Deadline for Schedule Information for O'Hare International, John F. Kennedy International, and Newark Liberty International Airports for the Summer 2009 Scheduling Season, 73 FR 54659 (Sept. 22, 2008); Notice of Submission Deadline for Schedule Information for San Francisco International Airport for the Summer 2012 Scheduling Season, 76 FR 64163 (Oct. 17, 2011); Notice of Submission Deadline for Schedule Information for Los Angeles International Airport for the Summer 2015 Scheduling Season 80 FR 12253 (Mar. 6, 2015); Notice of Change of Newark Liberty International Airport Designation, 81 FR 19861 (Apr. 6, 2016). The FAA most recently reaffirmed the Level 2 designations by 86 FR 24428 (May 6, 2021). These designations remain effective until the FAA announces a change in the Federal Register.

At DCA, U.S. and foreign air carriers, including commuter operators, must notify the FAA of: (1) Written consent and requests for confirmation of slot transfers; (2) slots required to be returned and slots voluntarily returned; (3) requests to be included in a lottery for the permanent allocation of available slots; (4) reports on usage of slots on a bi-monthly basis; and (5) requests for slots in low-demand hours or other temporary allocations. Operators must obtain a reservation from the FAA prior to conducting an unscheduled operation. At LGA, U.S. and foreign air carriers must notify the FAA of: (1) Written consent and requests for confirmation of slot transfers; (2) slots required to be returned and slots voluntarily returned; (3) requests to be included in a lottery for the permanent allocation of available slots; and (4) reports usage of slots on a bi-monthly basis. Carriers must also request and obtain a reservation from the FAA prior to conducting an unscheduled operation. At JFK, U.S. and foreign air carriers must notify the FAA of: (1) Written consent and requests for confirmation of slot transfers; (2) requests for seasonal allocation of historic and additional available slots; (3) reports on usage of slots on a seasonal basis; (4) the return of slots; and (5) changes to allocated slots. At EWR, LAX, ORD, and SFO, all carriers are asked to notify the FAA of their intended operating schedules during designated hours on a semiannual basis (for each winter and summer scheduling season) based on the IATA WASG Calendar of Coordination Activities and provide updates throughout the year when there are significant schedule changes.

The FAA estimates that all information from carriers is submitted electronically from data stored in carrier scheduling and operational databases. Requests for unscheduled flight reservations are submitted electronically via the internet. The FAA also proposes to re-name the collection to “FAA Runway Slot Administration and Schedule Analysis” to more accurately reflect the collection of information related to multiple airports subject to different FAA regulatory and voluntary processes.

Summary of Comments: On April 5, 2021, the FAA received an email from Airlines for America (A4A) requesting further supporting information for the FAA's March 16, 2021, 60-day notice. Specifically A4A requested the estimates used to derive the total annual burden of 5602.6 hours expressed in the March 16, 2021, notice. In response, the FAA placed a summary of communication and draft detailed annual hourly burden tables to the docket.³

³ See FAA-2021-0067-0002.

The FAA received three comments during the 60-day comment period from Exhaustless Inc., Eastern Airlines, LLC (Eastern), and A4A. Exhaustless, Inc. objects to this information collection and questions the FAA's legal authority to manage slots and schedules at constrained airports in the United States. Comments submitted by Exhaustless, Inc. are outside the scope of this Paperwork Reduction Act proceeding. The purpose of this proceeding is to update the Agency's estimates of the information collection burden associated with established FAA rules, regulations, orders, policy and processes associated with the FAA's administration of runway slots and schedule review at affected airports in the United States. However, the FAA nevertheless reiterates that the FAA Administrator is required to “develop plans and policy for the use of the navigable airspace and assign by regulation or order the use of the airspace necessary to ensure the safety of aircraft and the efficient use of airspace,” and to issue regulations for “using the navigable airspace efficiently.” 49 U.S.C. 40103(b). The FAA's administration of the runway slot program, including the establishment of runway schedule limits and facilitation of schedules at Level 2 airports, is adopted under the Administrator's mandate to efficiently manage the NAS.

Eastern supports the information collection and “provides its recommendations to maximize the public benefit including: (1) Collecting information about the size of aircraft used in each slot; (2) collecting additional information on slot trades and transfers including consideration provided; (3) publishing slot administration reports in a machine-readable format; and (4) harmonizing slot administration data collection and reporting on a bi-monthly basis.”

Eastern's recommendations for collecting the size of the aircraft used in each slot, collecting additional information on slot trades and transfers including consideration provided, and harmonizing slot administration data collection and reporting among all the FAA slot controlled airports on a bi-monthly basis are suggestions that are also outside the scope of this Paperwork Reduction Act proceeding. These recommendations do not relate to the burden associated with existing rules and policy in effect and instead, would require changes to the existing rules, orders and policies currently in effect. Eastern's recommendation that FAA should publish slot administration reports in a machine-readable format is valuable feedback, though unrelated to the collection of information. The FAA currently publishes slot holder and operator reports, and uneven transfer reports in a PDF file format at https://www.faa.gov/about/office_org/headquarters_offices/ato/service_units/systemops/perf_analysis/slot_administration/data/ and intends to review options for publishing additional data in a more accessible format for data analysis by interested stakeholders.

A4A's comment “requests a different and simplified information collection process for managing the slot holdings of carriers with combined inventory and marketing control to drastically reduce information collection burdens.” Essentially, A4A proposes programmatic changes to allow mainline and regional carriers to transfer slots among one another without requiring notification of each individual transfer to the FAA. A4A also asserts that FAA has underestimated the burden associated with transfers and provided data that they believe more accurately reflects the volume of transfers and associated burden. A4A indicates it “conducted a survey of members to determine the actual number of slot transfers between operating and marketing carriers at DCA, LGA, and JFK for the month of July 2019, and found there were 36,180 such slot transfers. There were 14,125 slot transfers at DCA, 14,897 slot transfers at LGA, and 7,158 slot transfers at JFK, this is aggregated data, not estimates.” Using the FAA's estimate of 6 minutes per slot transfer, A4A comments “this results in 3,618 hours for the month of July 2019 or an annual burden of 43,416 hours or more than 770% of FAA's burden estimate.” A4A asserts that this data further supports a change in the process for how transfers are managed because both FAA and carriers could benefit from reduced burden.

The FAA has reviewed the data presented by A4A as aggregated from information on actual transfers provided by its members. For July 2019, the data is generally consistent with the number of FAA slot transfers in effect during that month between carriers with combined inventory and marketing control. The A4A data is also generally consistent with published flight schedules when looking at the breakdown between the marketing and operating carriers. The large disparity between the FAA and A4A estimates appears to be a result of A4A using a different methodology for determining the volume of transfer requests submitted to the FAA.

The A4A calculations appear to consider each day that a slot transfer is in effect as a unique transfer that creates a unique burden-producing event with associated costs. Under the methodology used by A4A, the transfer of a daily slot for the entire month of July 2019 at a single airport would create 31 unique burdens. The transfer of the daily slot extrapolated on an annual basis would have created 365 unique burdens in 2019. The FAA does not agree with the methodology or burden estimates as proposed by A4A as it does not reflect how slot transfers between carriers under combined inventory and marketing control or those between other carriers are typically submitted to the FAA. Most slot transfers are not submitted by carriers to the FAA for single effective dates but rather for longer periods. The most common effective dates are for several weeks, months, or for all or most of a scheduling season. The FAA considers each slot transfer request from carriers, as well as the FAA reply, as a burden-producing event rather than the number of days in which a transfer is effective.

A4A's requested change for a different and simplified information collection process for managing the slot holdings of carriers with combined inventory and marketing control is outside the scope of this Paperwork Reduction Act proceeding. Rather, as the FAA has previously stated, implementing such a change would require rulemaking at DCA and a substantive change to the Orders Limiting Operations, in effect at JFK and LGA.⁴

⁴ See FAA's January 29, 2018 Response to Delta Air Lines Request for Transfer Process Change, a copy has been included in the docket for this proceeding.

Respondents: 119 unique carriers; unknown number of operators conducting unscheduled operations at LGA and DCA.

Frequency: Information is collected as needed; some reporting on bimonthly or semiannual basis.

Estimated Average Burden per Response: 6 minutes per slot transaction per respondent (i.e. transferor and transferee); 6 minutes per slot return; 6 minutes per schedule update; 6 minutes per request for inclusion in a lottery; 2 minutes per unscheduled slot request; 1.5 hours per schedule submission; and 1 hour per slot usage report.

Estimated Total Annual Burden: 5,602.6 hours.

Issued in Washington, DC on August 26, 2021.
Matthew S. Gonabe,
Program Specialist, FAA Slot Administration.

[FR Doc. 2021-18768 Filed 8-26-21; 4:15 pm]

BILLING CODE 4910-13-P